DEPARTMENT OF COMMERCE

National Oceanic and Atmospheric Administration

Nomination of Existing Marine Protected Areas to the National System of Marine Protected Areas

AGENCY: NOAA, Department of Commerce (DOC).

ACTION: Public notice and opportunity for comment on the list of nominations received from federal, state and territorial marine protected area programs to join the National System of Marine Protected Areas.

SUMMARY: NOAA and the Department of the Interior (DOI) invited federal, state, commonwealth, and territorial marine protected area (MPA) programs with potentially eligible existing MPAs to nominate their sites to the National System of MPAs (national system). The national system and the nomination process are described in the Framework for the National System of Marine Protected Areas of the United States (Framework), developed in response to Executive Order 13158 on Marine Protected Areas. The final Framework was published on November 19, 2008, (73 FR 69608) and provides guidance for collaborative efforts among federal, state, commonwealth, territorial, tribal and local governments and stakeholders to develop an effective and well coordinated national system of MPAs that includes existing MPAs meeting national system criteria as well as new sites that may be established by managing agencies to fill key conservation gaps in important ocean areas.

DATES: Comments on the nominations to the national system of MPAs are due August 5, 2010.

ADDRESSES: Comments should be sent to Joseph A. Uravitch, National Oceanic and Atmospheric Administration, National Marine Protected Areas Center, 1305 East West Highway, N/ORM, Silver Spring, MD 20910. Fax: (301) 713-3110. E-mail: mpa.comments@noaa.gov. Comments will be accepted in written form by mail, e-mail, or fax.

FOR FURTHER INFORMATION CONTACT: Lauren Wenzel, NOAA, at 301-713-3100, ext. 136 or via e-mail at mpa.comments@noaa.gov. An electronic copy of the list of nominated MPAs is available for download at http://www.mpa.gov.

SUPPLEMENTARY INFORMATION:

Background on National System

The national system of MPAs includes member MPA sites, networks and systems established and managed by federal, state, tribal and/or local governments that collectively enhance conservation of the nation's natural and cultural marine heritage and represent its diverse ecosystems and resources. Although participating sites continue to be managed independently, national system MPAs also work together at the regional and national levels to achieve common objectives for conserving the nation's important natural and cultural resources, with emphasis on achieving the priority conservation objectives of the Framework. Executive Order 13158 defines an MPA as: “any area of the marine environment that has been reserved by Federal, State, territorial, tribal, or local laws or regulations to provide lasting protection for part or all of the natural and cultural resources therein.” As such, MPAs in the national system include sites with a wide range of protections, including multiple use areas that manage a broad spectrum of activities and no-take reserves where all extractive uses are prohibited. Although sites in the national system may include both terrestrial and marine components, the term MPA as defined in the Framework refers only to the marine portion of a site (below the mean high tide mark).

Benefits of joining the national system of MPAs, which are expected to increase over time as the system matures, include a facilitated means to work with other MPAs in the region, and nationally on issues of common conservation concern; fostering greater public and international recognition of MPAs, MPA programs, and the resources they protect; priority in the receipt of available training and technical support, MPA partnership grants with the National Fish and Wildlife Foundation, cooperative project participation, and other support for cross-cutting needs; and the opportunity to influence federal and regional ocean conservation and management initiatives (such as integrated ocean observing systems, systematic monitoring and evaluation, targeted outreach to key user groups, and helping to identify and address MPA research needs). In addition, the national system provides a forum for coordinated regional planning about place-based conservation priorities that does not currently exist.

Joining the national system does not restrict or require changes affecting the designation process for new MPAs or management of existing MPAs. It does not bring state, territorial or local sites under federal authority. It does not establish new regulatory authority or interfere with the exercise of existing agency authorities. The national system is a mechanism to foster greater collaboration among participating MPA sites and programs to enhance stewardship in the marine waters of the United States.

Nomination Process

The Framework describes two major focal areas for building the national system of MPAs—a nomination process to allow existing MPAs that meet the entry criteria to become part of the system and a collaborative regional gap analysis process to identify areas of significance for natural or cultural resources that may merit additional protection through existing federal, state, commonwealth, territorial, tribal or local MPA authorities. The first call for nominations was issued in November 2008, resulting in the acceptance of 225 charter sites to the national system of MPAs in April 2009. The second nomination process for the national system began in August 2009, resulting in the admission of 29 additional sites accepted into the national system in May 2010. This notice is for the third round of nominations to the national system.

There are three entry criteria for existing MPAs to join the national system, plus a fourth for cultural heritage. Sites that meet all pertinent criteria are eligible for the national system.

1. Meets the definition of an MPA as defined in the Framework.

2. Has a management plan (can be site-specific or part of a broader programmatic management plan; must have goals and objectives and call for monitoring or evaluation of those goals and objectives).

3. Contributes to at least one priority conservation objective as listed in the Framework.

4. Cultural heritage MPAs must also conform to criteria for the National Register for Historic Places.

The MPA Center used existing information in the MPA Inventory to determine which MPAs meet the first and second criteria. The inventory is online at http://www.mpa.gov/helpful_resources/inventory.html, and potentially eligible sites are posted online at http://mpa.gov/pdf/national-system/allsitesumsheet809.pdf. As part of the nomination process, the managing entity for each potentially eligible site is asked to provide information on the third and fourth criteria.

List of MPAs Nominated to the National System

The following four MPAs have been nominated by NOAA, in consultation with the Mid-Atlantic Fishery Management Council (Council), to join the national system of MPAs. The public was invited to provide comments regarding the Council's proposed MPA sites at the October and December 2009 Council meetings. At the December 2009 meeting, the Council voted to unanimously recommend the inclusion of the four Tilefish Gear Restricted Areas. A list providing more detail for each site is available at http://www.mpa.gov.

Federal Marine Protected Areas

Fishery Management Gear Restricted Areas (Under Tilefish Fishery Management Plan):

Oceanographer Canyon

Lydonia Canyon

Veatch Canyon

Norfolk Canyon

Review and Approval

Following this public comment period, the MPA Center will forward public comments to the relevant managing entity or entities, which will reaffirm or withdraw (in writing to the MPA Center), the nomination. After final MPA Center review, mutually agreed upon MPAs will be accepted into the national system and the List of National System MPAs will be posted at http://www.mpa.gov.

Dated: June 29, 2010.
Holly Bamford,
Acting, Deputy Assistant Administrator.

[FR Doc. 2010-16313 Filed 7-2-10; 8:45 am]

BILLING CODE P